DEPARTMENT OF COMMERCE

International Trade Administration

Initiation of Antidumping and Countervailing Duty Administrative Reviews and Requests for Revocation in Part

AGENCY: Import Administration, International Trade Administration, Department of Commerce.

ACTION: Notice of initiation of Antidumping and Countervailing Duty Administrative Reviews and requests for revocation in part.

SUMMARY: The Department of Commerce (the Department) has received requests to conduct administrative reviews of various antidumping and countervailing duty orders and findings with August anniversary dates. In accordance with the Department's regulations, we are initiating those administrative reviews. The Department also received requests to revoke two antidumping duty orders in part.

EFFECTIVE DATE: October 2, 2000.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2000), for administrative reviews of various antidumping and countervailing duty orders and findings with August anniversary dates. The Department also received timely requests to revoke in part the antidumping duty orders for Cut-to-Length Carbon Steel Plate from Canada and Oil Country Tubular Goods from Mexico.

Initiation of Reviews

In accordance with sections 19 CFR 351.221(c)(1)(i), we are initiating administrative reviews of the following antidumping and countervailing duty orders and findings. We intend to issue the final results of these reviews not later than August 31, 2001.

| Period to be reviewed
Antidumping Duty Proceedings
CANADA:
Corrosion-Resistant Carbon Steel Flat Products, A-122-822 | 8/1/199-7/31/00
Stelco, Inc.
Continuous Colour Coat, Ltd.
Dofasco, Inc.
Sorevco, Inc.
National Steel Corporation
Cut-to-Length Carbon Steel Plate, A-122-823 | 8/1/99-7/31/00
Stelco, Inc.
Clayson Steel Inc.
Gerdau MRM Steel
FRANCE: Industrial Nitrocellulose, A-427-009 | 8/1/99-7/31/00
Bergerac N.C.
GERMANY:
Cut-to-Length Carbon Steel Plate, A-428-816 | 8/1/99-7/31/00
Reiner Brach GmbH & Co.
ITALY:
Grain-Oriented Electrical Steel, A-475-811 | 8/1/99-7/31/00
Acciai Speciali Terni S.p.A.
Granular Polytetrafluoroethylene (PTFE) Resin, A-475-703 | 8/1/99-7/31/00
Ausimont
Stainless Steel Sheet and Strip in Coils,¹ A-475-824 | 7/1/99-6/30/00
Acciai Special Terni S.p.A.
JAPAN:
Corrosion-Resistant Carbon Steel Flat Products, A-588-824 | 8/1/99-7/31/00
Nippon Steel Corporation
Kawasaki Steel Corporation
Daido Metal Corp.
Oil Country Tubular Goods, A-588-835 | 8/1/99-7/31/00
Sumitomo Metal Industries, Ltd.
MEXICO:
Cut-to-Length Carbon Steel Plate, A-201-809 | 8/1/99-7/31/00
Altos Hornos de Mexico S.A. de C.V.
Gray Portland Cement and Clinker, A-201-802 | 8/1/99-7/31/00
GCC Cementos, S.A. de C.V.
CEMEX, S.A. de C.V.
Apasco, S.A. de C.V.
Oil Country Tubular Goods, A-201-817 | 8/1/99-7/31/00
Hylsa, S.A. de C.V.
Tubos de Acero de Mexico S.A.
REPUBLIC OF KOREA:
Cold-Rolled Carbon Steel Flat Products, A-580-815 | 8/1/99-7/31/00
Dongbu Steel Co., Ltd.
Pohang Iron and Steel Co., Ltd.
Union Steel Manufacturing Co., Ltd.
Corrosion-Resistant Carbon Steel Flat Products, A-580-816 | 8/1/99-7/31/00
Dongbu Steel Co., Ltd.
Pohang Iron and Steel Co., Ltd.
Union Steel Manufacturing Co., Ltd.
SeAH Steel Corporation
Oil Country Tubular Goods, Other than Drill Pipe, A-580-825 | 8/1/99-7/31/00
SeAH Steel Corporation
ROMANIA:
Cut-to-Length Carbon Steel Plate, A-485-803 | 8/1/99-7/31/00
Sidex, S.A./Metalexportimport, S.A.
Windmill International PTE, Ltd.
THE PEOPLE'S REPUBLIC OF CHINA:
Petroleum Wax Candles,² A-570-504 | 8/1/99-7/31/00
Universal Candle Company, Ltd.
Sulfanilic Acid,³ A-570-815 | 8/1/99-7/31/00
Boading Mancheng Zhenxing Chemical Plant
Xinyu Chemical Plant
Yude Chemical Industry, Co.
Zhenxing Chemical Industry, Co.,
Countervailing Duty Proceedings
BELGIUM:
Stainless Steel Plate in Coils, C-423-809 | ⁴9/4/98-12/31/99
Acciai Speciali Terni S.p.A.
CANADA:
Alloy Magnesium, C-122-815 | 1/1/99-12/31/99
Norsk Hydro Canada Inc.
Pure Magnesium, C-122-815 | 1/1/99-12/31/99
Norsk Hydro Canada Inc.
ISRAEL:
Industrial Phosphoric Acid, C-508-605 | 1/1/99-12/31/99
Rotem Amfert Negev Ltd.
ITALY:
Stainless Steel Sheet and Strip in Coils, C-475-825 | 11/17/98-12/31/99
Acciai Speciali Terni S.p.A.
Acciai Speciali Terni USA, Inc.
REPUBLIC OF KOREA:
Stainless Steel Sheet and Strip in Coils, C-580-835 | 11/17/98-12/31/99
Inchon Iron and Steel Co., Ltd.
Sammi Steel Co.
Suspension Agreements
None.
¹ Inadvertently omitted from previous initiation notice.
² If one of the above named companies does not qualify for a separate rate, all other exporters of petroleum wax candles from the People's Republic of China who have not qualified for a separate rate are deemed to be covered by this review as part of the single PRC entity of which the named exporters are a part.
³ If one of the above named companies does not qualify for a separate rate, all other exporters of sulfanilic acid from the People's Republic of China who have not qualified for a separate rate are deemed to be covered by this review as part of the single PRC entity of which the named exporters are a part.
⁴ In the initiation notice published on July 7, 2000, (65 FR 41942), the review period for Acciai was incorrect. The period listed above is the correct period of review for that firm.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)) and 19 CFR 351.221(c)(1)(i).

Dated: September 26, 2000.
Holly A. Kuga,
Acting Deputy Assistant Secretary for Import Administration, Group II.

[FR Doc. 00-25275 Filed 9-29-00; 8:45 am]

BILLING CODE 3510-DS-P